DEPARTMENT OF COMMERCE

U.S. Census Bureau

Proposed Information Collection; Comment Request; 2012 Survey of Business Owners and Self-Employed Persons (SBO)

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before July 30, 2012.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Katherine Russell, U.S. Census Bureau, CSD, 6K280A, Washington, DC 20233-6400, (301) 763-7094, katherine.russell@census.gov.

SUPPLEMENTARY INFORMATION:

I. Abstract

The Census Bureau plans to conduct the 2012 Survey of Business Owners and Self-Employed Persons (SBO). In the SBO, businesses are asked several questions about their business as well as several questions about the gender, ethnicity, race, and veteran status of the principal owner(s). This survey provides the only comprehensive, regularly collected source of information on the characteristics of U.S. businesses by ownership category, i.e., by gender, ethnicity, race, and veteran status. The survey is conducted as part of the economic census program. The economic census is required by law to be taken every 5 years under Title 13 of the United States Code, Sections 131, 193, and 224.

Businesses which reported any business activity on any one of the following Internal Revenue Service tax forms will be eligible for selection: 1040 (Schedule C), “Profit or Loss from Business (Sole Proprietorship); 1065, U.S. Return of Partnership Income; 941, “Employer's Quarterly Federal Tax Return”; 944, “Employer's Annual Federal Tax Return”; or any one of the 1120 corporate tax forms.

The Survey of Business Owners was last conducted in 2007 as part of the 2007 Economic Census. The following changes have been made to the 2012 SBO:

• To reduce the SBO sample size, mailing and processing costs, and respondent burden, the Census Bureau is expanding its use of direct data substitution from existing data sources.

• Select businesses will be mailed the new 2012 SBO-2 short form with 39 fewer questions to answer than the 2012 SBO-1 long form.

• Spanish versions of the SBO-1 and the SBO-2 forms will be available upon request.

• The first eight questions from the 2007 SBO-1 form have been reorganized into three questions on the 2012 SBO-1 and SBO-2 forms to improve navigation through the form.

• The veteran question has been revised and expanded to collect information on whether the veteran was service-disabled, served on active duty or as a reservist during the survey year, served on active duty at any time, and served on active duty after September 11, 2001. The revised and expanded wording for the veteran categories and the collection of the additional service characteristics reflects input received during consultations with many leaders in the veteran community. Input was received from, among others, the Department of Defense, the Veterans Administration, the Bureau of Labor Statistics, the U.S. House of Representatives Committee on Veterans' Affairs, the Senate Committee on Veterans' Affairs, the Small Business Administration, the American Legion, VET-Force, and AMVETS.

• Interest from researchers on the possible correlation between intellectual property rights and business success led to the addition of a question on whether the business owned a copyright, trademark, granted patent, or pending patent.

We received separate clearance from the Office of Management and Budget (OMB) to test our proposed 2012 SBO questionnaire. We intend to conduct interviews with 83 businesses in three rounds. Cognitive interviews began in November 2011 and will continue through June 2012. Upon completion of each round of interviews, the interview team meets and decides on the recommended changes to the form. The form is revised after each round and the interview protocol is updated to reflect the new version of the form. The third round of testing is continuing as we submit this presubmission notice.

II. Method of Collection

The Census Bureau will primarily use a mailout/mailback survey form to collect the data. Electronic reporting will be available for the return of both the SBO-1 and SBO-2 forms. The Spanish versions of these forms will only be available in paper format upon request. The questionnaires will be mailed from our National Processing Center in Jeffersonville, Indiana. Two mail follow-ups to nonrespondents will be conducted at approximately one-month intervals.

III. Data

OMB Control Number: 0607-0943.

Form Number: SBO-1, 2012 Survey of Business Owners and Self-Employed Persons; SBO-2, 2012 Survey of Business Owners and Self-Employed Persons (short version); SBO-1S, 2012 Survey of Business Owners and Self-Employed Persons (Spanish version of the long form); SBO-2S, 2012 Survey of Business Owners and Self-Employed Persons (Spanish version of the short form).

Type of Review: Regular submission.

Affected Public: Large and small businesses.

Estimated Number of Respondents: 1.75 million—half will receive the long form and half will receive the short form.

Estimated Time per Response: 12 minutes for the SBO-1 and 8 minutes for the SBO-2.

Estimated Total Annual Burden Hours: 291,667.

Estimated Total Annual Cost: $8,814,177.

Respondent's Obligation: Mandatory.

Legal Authority: Title 13, United States Code, Sections 131, 193, and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 23, 2012.
Glenna Mickelson,
Management Analyst, Office of the Chief Information Officer.

[FR Doc. 2012-12909 Filed 5-25-12; 8:45 am]

BILLING CODE 3510-07-P